DEPARTMENT OF THE INTERIOR

National Park Service

[NPS-WASO-NAGPRA-NPS0040326; PPWOCRADN0-PCU00RP14.R50000]

Notice of Intended Repatriation: Museums of Lake County, Lakeport, CA

AGENCY: National Park Service, Interior.

ACTION: Notice.

SUMMARY: In accordance with the Native American Graves Protection and Repatriation Act (NAGPRA), the Museums of Lake County intends to repatriate certain cultural items that meet the definition of sacred objects or objects of cultural patrimony and that have a cultural affiliation with the Indian Tribes or Native Hawaiian organizations in this notice.

DATES: Repatriation of the cultural items in this notice may occur on or after July 11, 2025.

ADDRESSES: Send additional, written requests for repatriation of the cultural items in this notice to Carolynn Birilli, Curator, Museums of Lake County, 255 N Main Street, Lakeport, CA 95452, email carolynn.birilli@lakecountyca.gov.

SUPPLEMENTARY INFORMATION: This notice is published as part of the National Park Service's administrative responsibilities under NAGPRA. The determinations in this notice are the sole responsibility of the Museums of Lake County, and additional information on the determinations in this notice, including the results of consultation, can be found in the summary or related records. The National Park Service is not responsible for the determinations in this notice.

Abstract of Information Available

A total of five cultural items have been requested for repatriation. The two sacred objects and three objects of cultural patrimony are: a collection of 138 Pomo shell beads, two twined baskets, a lava rock mortar section, and an obsidian arrowhead point.

These items were acquired by the museum between 1983 and 2025 and originate from Lake County, California. Some were collected by Doris Hobson and Edward McPherson from the Middletown area. These objects have been identified through consultation with tribal representatives as items of cultural importance to the Middletown Rancheria of Pomo Indians. No hazardous substances were noted in the treatment of these objects.

Determinations

The Museums of Lake County has determined that:

• The two sacred objects described in this notice are specific ceremonial objects needed by a traditional Native American religious leader for present-day adherents to practice traditional Native American religion, according to the Native American traditional knowledge of a lineal descendant, Indian Tribe, or Native Hawaiian organization.

• The three objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Middletown Rancheria of Pomo Indians of California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after July 11, 2025. If competing requests for repatriation are received, the Museums of Lake County must determine the most appropriate requestor prior to repatriation. Requests for joint repatriation of the cultural items are considered a single request and not competing requests. The Museums of Lake County is responsible for sending a copy of this notice to the Indian Tribes and Native Hawaiian organizations identified in this notice and to any other consulting parties.

Authority: Native American Graves Protection and Repatriation Act, 25 U.S.C. 3004 and the implementing regulations, 43 CFR 10.9.

Dated: May 28, 2025.
Melanie O'Brien,
Manager, National NAGPRA Program.

[FR Doc. 2025-10596 Filed 6-10-25; 8:45 am]

BILLING CODE 4312-52-P